DEPARTMENT OF HEALTH AND HUMAN SERVICES

Centers for Disease Control and Prevention

[60 Day-04-17]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210. CDC is requesting an emergency clearance for this data collection with a two week public comment period. CDC is requesting OMB approval of this package 7 days after the end of the public comment period.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda M. Perryman, CDC Assistant Reports Clearance Officer, 1600 Clifton Road, MS-E11, Atlanta, GA 30333. Written comments should be received within 14 days of this notice.

Proposed Project: State-based Evaluation of the Alert Notification Component of CDC's Epidemic Information Exchange (Epi-X) Secure Public Health Communications Network—New—Epidemiology Program Office (EPO), Centers for Disease Control and Prevention (CDC). Great attention has been focused on improving secure public health communications networks for the dissemination of critical disease outbreak and/or bioterrorism-related events, which may have multi-jurisdictional involvement and cause disease and death within a short time-frame.

CDC proposes an information gathering training exercise to evaluate the extent to which new registrants and currently authorized users of the Epidemic Information Exchange (Epi-X) are able to utilize alert notification functionality to minimize or prevent unnecessary injury or disease-related morbidity and mortality through the use of secure communications and rapid notification systems. In this case, notification alerts would be sent to targeted public health professionals through a “barrage” of office and cell phones, home telephones, and pager calls to rapidly inform key health authorities from multidisciplinary backgrounds and multiple jurisdictions of evolving and critical public health information, to assist in a decision making process.

Presently, the necessity of this evaluation process is timely because of the threat of a national influenza epidemic in the coming months. Information will be gathered through an online questionnaire format. The information will help evaluate user comprehension and facility with the notification and rapid alerting functionalities of Epi-X. The questionnaire will consist of both closed- and open-ended items, and will be administered through Zoomerang, an online questionnaire program. If these measures fail, respondents will be contacted by telephone.

During the first 6 months, approximately 500 Epi-X users from every state of the union will be asked to volunteer input (in a 5-10 question format) about their experiences using the alert notification functionalities of the Epi-X communications system. There will be no cost to respondents, participation will be voluntary.

Respondents | No. of respondents | No. of responses per respondnet | Average burden per response (in hours) | Total burden (in hours)
State and Local Health Professionals | 500 | 1 | 15/60 | 125
Total |  |  |  | 125

Dated: December 16, 2003.
Alvin Hall,
Director, Management Analysis and Services Office, Centers for Disease Control and Prevention.

[FR Doc. 03-31434 Filed 12-19-03; 8:45 am]

BILLING CODE 4163-18-P